DEPARTMENT OF COMMERCE

U.S. Census Bureau

Proposed Information Collection; Comment Request; Survey of Income and Program Participation (SIPP) 2011 Re-engineered SIPP—Field Test

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before August 23, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Patrick J. Benton, Census Bureau, Room HQ-6H045, Washington, DC 20233-8400, (301) 763-4618.

SUPPLEMENTARY INFORMATION:

I. Abstract

The Census Bureau plans to conduct a field test for the Re-engineered SIPP from January to May of 2011. The SIPP is a household-based survey designed as a continuous series of national panels. The SIPP is molded around a central “core” of labor force and income questions that remain fixed throughout the life of the panel and then supplemented with questions designed to address specific needs. Examples of these types of questions include medical expenses, child care, retirement and pension plan coverage, marital history, and others.

The 2011 Re-engineered SIPP instrument is a revision of the 2010 Re-SIPP test instrument, in which respondents were interviewed during the 2010 Dress Rehearsal Re-SIPP Field Test. The Re-engineered SIPP will interview respondents in one year intervals, using the previous calendar year as the reference period.

The content of the Re-engineered SIPP will match that of the 2008 Panel SIPP very closely. The Re-engineered SIPP will not contain free-standing topical modules. However, a portion of the 2008 Panel topical module content will be integrated into the Re-engineered SIPP interview. The Re-engineered SIPP will use an Event History Calendar (EHC) which records dates of events and spells of coverage. The EHC should provide increased accuracy to dates reported by respondents.

The SIPP represents a source of information for a wide variety of topics and allows information for separate topics to be integrated to form a single, unified database so that the interaction between tax, transfer, and other government and private policies can be examined. Government domestic policy formulators depend heavily upon the SIPP information concerning the distribution of income received directly as money or indirectly as in-kind benefits and the effect of tax and transfer programs on this distribution. They also need improved and expanded data on the income and general economic and financial situation of the U.S. population, which the SIPP has provided on a continuing basis since 1983. The SIPP has measured levels of economic well-being and permitted changes in these levels to be measured over time.

Approximately 4,000 households will be selected for the 2011 Re-engineered SIPP field test, of which, 3200 households are expected to be interviewed. We estimate that each household contains 2.1 people aged 15 and above, yielding approximately 6,720 person-level interviews in this field test. Interviews take 60 minutes on average. The total annual burden for 2011 Re-engineered SIPP field test interviews would be 6,720 hours in FY 2011.

II. Method of Collection

The 2011 Re-engineered SIPP field test instrument will consist of one household interview which will reference the calendar year 2010. The interview is conducted in person with all household members 15 years old or over using regular proxy-respondent rules.

III. Data

OMB Control Number: 0607-0957.

Form Number: SIPP/CAPI Automated Instrument.

Type of Review: Regular.

Affected Public: Individuals or Households.

Estimated Number of Respondents: 6,720 people.

Estimated Time per Response: 60 minutes per person on average.

Estimated Total Annual Burden Hours: 6,720.

Estimated Total Annual Cost: The only cost to respondents is their time.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 17, 2010.
Glenna Mickelson,
Management Analyst, Office of the Chief Information Officer.

[FR Doc. 2010-15085 Filed 6-22-10; 8:45 am]

BILLING CODE 3510-07-P